GENERAL SERVICES ADMINISTRATION

Public Buildings Service; Region 10; Notice of Intent To Prepare an Environmental Impact Statement

ACTION: The US General Services Administration (GSA) hereby gives notice that it intends to prepare an Environmental Impact Statement (EIS) pursuant to the requirements of the National Environmental Policy Act (NEPA) of 1969, and the President's Council on Environmental Quality Regulations (40 CFR parts 1500-1508), for the construction of a new Port of Entry facility at Peace Arch in the City of Blaine, Whatcom County, Washington.

Procedures: This project is at the feasibility stage and has not been approved by Congress. A scoping meeting is being held at this time to ensure that all significant environmental issues are identified and thoroughly studied as part of the environmental analysis. This will be the second scoping meeting about the new Port of Entry. The first scoping meeting was held on August 11, 1999. Numerous responses were received at the meeting, and in the weeks following the meeting. Based on that input, new alternatives for the new Peace Arch Port of Entry were developed and will be presented at the second scoping meeting. When the prospectus for the project is submitted to Congress for approval and funding, it will take into consideration these significant issues.

The EIS will evaluate the proposed project, including all reasonable alternatives identified through the scoping process and a no-action alternative. The scoping process will be accomplished through direct mailing correspondence to interested persons, agencies, and organizations, notices in local newspapers and through a public scoping meeting. The public scoping meeting will be held on April 12, 2001 at the Blaine Community Senior center located at 763 G Street, Blaine, Washington at 7:00 pm following an open house beginning at 6:00 pm. GSA will publish a public notice of the meeting in Blaine newspapers approximately two weeks prior to the events. Scoping will be limited to identifying significant issues to be analyzed in the environmental document and commenting on alternatives and the merit of the proposal.

Additional public meetings will be held after the release of the Draft Environmental Impact Statement and GSA will respond to all relevant comments received during the 45-day public comment period in the Final Environmental Impact Statement. After a minimum 30-day period following publication of the Final Environmental Impact Statement, GSA will issue a Record of Decision that will identify the alternative selected.

SUPPLEMENTARY INFORMATION: GSA, assisted by Herrera Environmental Consultants, will prepare the Environmental Impact Statement. GSA will serve as the lead agency and scoping will be conducted consistent with NEPA regulations and guidelines. GSA invites interested individuals, organizations, and federal, state, and local agencies to participate in defining and identifying any significant impacts and issues to be studied in the EIS, including social, economic, or environmental concerns.

Project Purpose, Historical Background, and Description: The US Customs, Immigration and Naturalization Service, and Dept of Agriculture are currently located in the existing Peace Arch Port of Entry facility. The existing facility does not currently meet the tenant agencies space requirement due to the present configuration of the site. The existing facility cannot be adapted to accommodate the required space needs of the agency tenants.

Alternatives: The EIS will examine the short- and long-term impacts on the natural and physical environment. The impact assessment will include but not be limited to impacts such as social environment, changes in land use, aesthetics, changes in park land, changes in traffic and parking patterns, economic impacts, and consideration of City planning and zoning requirements. The EIS will examine measures to mitigate significant adverse impacts resulting from the proposed action. Concurrent with NEPA implementation, GSA will also implement its consultation responsibilities under Section 106 of the National Historical Preservation Act to identify potential impacts to existing historic or cultural resources.

The EIS will consider a no-action alternative and action alternatives. The no-action alternative would continue the occupancy in the existing Peace Arch Port of Entry facility in Blaine. The action alternatives will consist of three different configurations for construction of a new Port of Entry facility. The action alternatives reflect varying impacts on highway alignment, railroad changes and adjacent park land.

ADDRESSES: In addition to the public scoping process, you may send written comments on the scope of alternatives and potential impacts to the following address: Michael D. Levine, Regional Environmental Program Manager, 10PCP, General Services Administration, 400 15th Street SW, Auburn, WA, 98001, or fax: Michael D. Levine at 253-931-7308, or e-mail at Michael.Levine@GSA.GOV Written comments should be received no later than 45 days after the publishing of this notice.

FOR FURTHER INFORMATION CONTACT: John Meerscheidt at Herrera Environmental Consultants, 2200 Sixth Ave, Suite 601, Seattle, Washington, 98121 or call 206-441-9080; or Michael D. Levine, GSA (253) 931-7263.

Mailing List: If you wish to be placed on the project mailing list to receive further information as the EIS process develops, contact John Meerscheidt at the address noted above.

Dated: March 28, 2001.
Bill DuBray,
Acting Regional Administrator (10A).

[FR Doc. 01-8744 Filed 4-9-01; 8:45 am]

BILLING CODE 6820-34-M